NUCLEAR REGULATORY COMMISSION

Docket No. 50-313

Entergy Arkansas, Inc., Entergy Operations, Inc., Arkansas Nuclear One, Unit 1, Notice of Issuance of Renewed Facility Operating License No. DPR-51 for an Additional 20-Year Period

Notice is hereby given that the U.S. Nuclear Regulatory Commission (the Commission) has issued Renewed Facility Operating License No. DPR-51 to Entergy Arkansas, Inc. and Entergy Operations, Inc. (the licensee). The license authorizes operation of Arkansas Nuclear One, Unit 1 by the licensee at reactor core power levels not in excess of 2568 megawatts thermal in accordance with the provisions of the Unit 1 license and its Technical Specifications (Appendix A).

Arkansas Nuclear One, Unit 1, is a pressurized water nuclear reactor located near Russellville on the Dardanelle Reservoir in Pope County, Arkansas.

The application for the renewed license complies with the standards and requirements of the Atomic Energy Act of 1954, as amended (the Act), and the Commission's regulations. The Commission has made appropriate findings as required by the Act and the Commission's regulations in 10 CFR Chapter I, which are set forth in each license. Prior public notice of the action involving the proposed issuance of this renewed operating license and of opportunity for hearing regarding the proposed issuance of this renewed operating license was published in the Federal Register on February 11, 2000 (65 FR 7074).

For further details with respect to these actions, see (1) the Entergy Arkansas, Inc. and Entergy Operations, Inc.'s License Renewal Application for Arkansas Nuclear One, Unit 1, dated January 31, 2000, as supplemented by letters dated February 4, 14, and 28, March 7, April 11, 12, 17, and 25, May 2 and 5, June 1, 5, 6, 9 and 23, July 6 and 31, August 24 and 30, September 6, 7, and 12, October 3, 11, and 20, November 2, December 4 and 20, 2000 and March 14, 2001; (2) Renewed Facility Operating License No. DPR-51, with the appendix listed above; (3) the Commission's Safety Evaluation Reports dated January 10, April 12, and June 2001 (NUREG-1743); (4) the licensee's Safety Analysis Report; and (5) the Commission's Final Environmental Impact Statement (NUREG-1437, Supplement 3), dated April 2001. These items are available at the NRC's Public Document Room, located at One White Flint North, 11555 Rockville Pike, first floor, Rockville, Maryland 20852, and can be viewed from the NRC Public Electronic Reading Room at http://www.nrc.gov/NRC/ADAMS/index.html.

A copy of the Renewed Facility Operating License No. DPR-51, may be obtained upon request addressed to the U.S. Nuclear Regulatory Commission, Washington, D.C. 20555-0001, Attention: Director, Division of Regulatory Improvement Programs. Copies of the Safety Evaluation Report (NUREG-1743) and the Final Environmental Impact Statement (NUREG-1437, Supplement 3) may be purchased from the National Technical Information Service, Springfield, Virginia 22161-0002 (telephone number 1-800-553-6847), <http://www.ntis.gov/ordernow>), or the Superintendent of Documents, U.S. Government Printing Office, P.O. Box 371954, Pittsburgh, PA 15250-7954 (telephone number 202-512-1800, <http://www.access.gpo.gov/su docs>). All orders should clearly identify the NRC publication number and the requestor's Government Printing Office deposit account, or VISA or MasterCard number and expiration date.

Dated at Rockville, Maryland, this the 20th day of June 2001.
For The Nuclear Regulatory Commission.
Robert Prato,
Project Manager, License Renewal and Standardization Branch, Division of Regulatory Improvement Programs, Office of Nuclear Reactor Regulation.

[FR Doc. 01-16102 Filed 6-26-01; 8:45 am]

BILLING CODE 7590-01-P